DEPARTMENT OF THE INTERIOR

National Park Service

Notice of Availability of Draft Director's Order Concerning National Park Service Policies and Procedures Governing its Environmental Management Systems

AGENCY: National Park Service, Interior.

ACTION: Notice of availability.

SUMMARY: The National Park Service (NPS) is proposing to adopt a Director's Order setting forth the policies and procedures under which NPS facilities will develop and implement Environmental Management Systems (EMS). This is necessary because Executive Order 13148 requires that an EMS be implemented at all appropriate Federal facilities by December 31, 2005. The Director's Order will help ensure that all necessary actions are taken to integrate environmental accountability into day-to-day decision-making and long-term planning processes, and across all NPS activities and functions.

DATES: Written comments will be accepted until August 22, 2003.

ADDRESSES: Draft Director's Order #13A is available on the Internet at http://www.nps.gov/policy. Requests for copies of, and written comments on, the Director's Order should be sent to Carl Wang, NPS Environmental Management Program Manager, Park Facility Management Division, 1849 C Street, NW., Washington DC 20240, or to his Internet address: carl_wang@nps.gov.

FOR FURTHER INFORMATION CONTACT: Carl Wang at 202/513-7033.

SUPPLEMENTARY INFORMATION: The NPS is updating its current system of internal written instructions. When these documents contain new policy or procedural requirements that may affect parties outside the NPS, they are first made available for public review and comment before being adopted. The draft Director's Order covers topics such as the principles of an EMS; NPS EMS policy; and elements of an EMS (e.g., a commitment statement, goals and targets, recordkeeping, communication, training, monitoring, measurement, corrective action, management review, and roles and responsibilities). Individual respondents may request that we withhold their home address from the administrative record, which we will honor to the extent allowable by law. There also may be circumstances in which we would withhold from the record a respondent's identity, as allowable by law. If you wish us to withhold your name and/or address, you must state this prominently at the beginning of your comment.

Dated: April 30, 2003.
Dale J. Wilking,
Chief, Park Facility Management Division.

[FR Doc. 03-18699 Filed 7-22-03; 8:45 am]

BILLING CODE 4312-52-P